DEPARTMENT OF COMMERCE

National Institute of Standards and Technology

Information Collection Activities; Submission to the Office of Management and Budget (OMB) for Review and Approval; Comment Request; SURF Fellow Housing Application

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 26, 2022, during a 60-day comment period. This notice allows for an additional 30 days for public comments.

Agency: National Institute of Standards and Technology (NIST), Commerce.

Title: SURF Fellow Housing Application.

OMB Control Number: 0693-0084.

Form Number(s): None.

Type of Request: Regular submission, extension of a current information collection.

Number of Respondents: 220.

Average Hours per Response: 30 minutes.

Burden Hours: 110 hours.

Needs and Uses: The purpose of this collection is to gather information requested on behalf of the NIST Summer Undergraduate Research Fellowship (SURF) Program for both Gaithersburg and Boulder locations. Students participating in the program receive a fellowship which includes lodging arranged by the agency. To coordinate the lodging, information is submitted by accepted students which require lodging during the program dates. The student information is utilized for roommate matching based on gender and common interests. The information includes identification of accepted laboratory, housing requirement (yes or no), first name, last name, dates requesting housing, gender, roommate identification, name of academic institution of enrollment, preferences (night owl, early bird, neatness, smoking,), and special requests.

Affected Public: Individuals or households.

Frequency: Annually.

Respondent's Obligation: Required to obtain benefits.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0084.

Sheleen Dumas,
Department PRA Clearance Officer, Office of the Chief Information Officer, Commerce Department.

[FR Doc. 2022-10917 Filed 5-19-22; 8:45 am]

BILLING CODE 3510-13-P